DEPARTMENT OF TRANSPORTATION

Federal Transit Administration

Limitation on Claims Against a Proposed Public Transportation Project—Midvalley Connector Bus Rapid Transit Project

AGENCY: Federal Transit Administration (FTA), Department of Transportation (DOT).

ACTION: Notice.

SUMMARY: This notice announces final environmental actions taken by the Federal Transit Administration (FTA) regarding the Midvalley Connector Bus Rapid Transit (BRT) Project in the Cities of Murray, Taylorsville, and West Valley, Salt Lake County, Utah. The purpose of this notice is to publicly announce the FTA's environmental decisions on the subject project and to activate the limitation on any claims that may challenge these final environmental actions.

DATES: A claim seeking judicial review of FTA actions announced herein for the listed public transportation project will be barred unless the claim is filed on or before March 17, 2023.

FOR FURTHER INFORMATION CONTACT: Kathryn Loster, Assistant Chief Counsel, Office of Chief Counsel, (312) 705-1269, or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov.

This notice applies to all FTA decisions on the listed project as of the issuance date of this notice and all laws under which such actions were taken, including, but not limited to, NEPA (42 U.S.C. 4321-4375), Section 4(f) requirements (23 U.S.C. 138, 49 U.S.C. 303), section 106 of the National Historic Preservation Act (54 U.S.C. 306108), Endangered Species Act (16 U.S.C. 1531), Clean Water Act (33 U.S.C. 1251), Uniform Relocation and Real Property Acquisition Policies Act (42 U.S.C. 4601), and the Clean Air Act (42 U.S.C. 7401-7671q). This notice does not, however, alter or extend the limitation period for challenges of project decisions subject to previous notices published in the Federal Register. The project and actions that are the subject of this notice follow:

Project name and location: Midvalley Connector Bus Rapid Transit Project (the Project) in the Cities of Murray, Taylorsville, and West Valley, Salt Lake County, Utah. Project Sponsor: The Utah Transit Authority (UTA), Salt Lake City, Utah. Project description: The Project includes construction of a new 7-mile BRT service route from Murray Central Station in Murray to the West Valley Central Station in West Valley City, travelling predominantly in mixed traffic lanes, with the exception of 1.4 miles in dedicated bus lanes. The Project includes construction of 15 new stations consisting of sheltered seating with real-time transit information and off-board fare collection vending machines. The Project also involves transit signal priority, Complete Streets initiatives such as pedestrian and bicycle amenities, and associated infrastructure improvements along the BRT route.

Final agency actions: Section 4(f) de minimis impact determination, dated October 15, 2021; Section 106 No Adverse Effect determination, dated October 15, 2021; and Midvalley Connector Bus Rapid Transit Project Finding of No Significant Impact (FONSI), dated September 23, 2022. Supporting documentation: The Midvalley Connector Bus Rapid Transit Project Environmental Assessment (EA), dated June 28, 2022. The FONSI, EA and associated documents can be viewed and downloaded from: http://midvalleyconnector.com/.

Authority: 23 U.S.C. 139(l)(1).

Mark A. Ferroni,
Deputy Associate Administrator for Planning and Environment.

[FR Doc. 2022-22598 Filed 10-17-22; 8:45 am]

BILLING CODE 4910-57-P